DEPARTMENT OF JUSTICE

Notice of Lodging of Proposed First Amended Consent Decree Under the Comprehensive Environmental Response, Compensation, and Liability Act

On May 3, 2013, the Department of Justice lodged a proposed First Amended Consent Decree with the United States District Court for the Central District of California in the lawsuit entitled United States and the State of California v. Texaco Inc., Civil Action No. CV-93-2990-JSL (SHx), with respect to the Pacific Coast Pipeline Superfund Site in Fillmore, California (the “Site”).

On May 3, 2013, the United States, the State of California, and Defendant filed a joint stipulation to amend the Consent Decree that was entered by the Court on August 11, 1993. The U.S. Environmental Protection Agency (“EPA”) determined that the groundwater remedy set forth in EPA's Record of Decision (“ROD”) issued on March 31, 1992, was not successful in achieving the goal of reducing groundwater contaminant levels below drinking water standards and did not address shallow soil contamination at the Site. On September 29, 2011, EPA issued an Amendment to the ROD to address soil and groundwater contamination at the Site. The proposed First Amended Consent Decree amends the Consent Decree to include work required to implement the remedy as set forth in EPA's Statement of Work for Remedial Design and Remedial Action (RD/RA) for Soil and Groundwater, which is attached as Appendix F to the First Amended Consent Decree.

The publication of this notice opens a period for public comment on the First Amended Consent Decree. Comments should be addressed to the Assistant Attorney General, Environment and Natural Resources Division, and should refer to United States and the State of California v. Texaco Inc., D.J. Ref. 90-11-2-840. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the First Amended Consent Decree may be examined and downloaded at this Department of Justice Web site: http://www.usdoj.gov/enrd/Consent_Decrees.html. We will provide a paper copy of the First Amended Consent Decree upon written request and payment of reproduction costs. Please mail your request and payment to: Consent Decree Library, U.S. DOJ—ENRD, P.O. Box 7611, Washington, DC 20044-7611.

Please enclose a check or money order for $18.00 (without appendices) or $69.00 (with appendices) (25 cents per page reproduction cost) payable to the United States Treasury.

Henry Friedman,
Assistant Chief, Environmental Enforcement Section, Environment and Natural Resources Division.

[FR Doc. 2013-10989 Filed 5-8-13; 8:45 am]

BILLING CODE 4410-15-P